DEPARTMENT OF COMMERCE

National Oceanic and Atmospheric Administration

RIN 0648-XZ46

Magnuson-Stevens Act Provisions; General Provisions for Domestic Fisheries; Application for Exempted Fishing Permit (EFP)

AGENCY: National Marine Fisheries Service (NMFS), National Oceanic and Atmospheric Administration (NOAA), Department of Commerce.

ACTION: Notification of a proposal for an EFP to conduct experimental fishing; request for comments.

SUMMARY: The Assistant Regional Administrator for Sustainable Fisheries, Northeast Region, NMFS (Assistant Regional Administrator), is soliciting public comment on an EFP application submitted by Wallace & Associates on behalf of Truex Enterprises. The proposed EFP would extend a previously authorized EFP for an additional year to continue testing the safety and efficacy of harvesting surfclams and ocean quahogs from the Atlantic surfclam and ocean quahog Georges Bank (GB) Closure Area using a sampling protocol developed by State and Federal regulatory agencies and endorsed by the U.S. Food and Drug Administration (FDA). The Assistant Regional Administrator has also made a preliminary determination that the activities authorized under the EFP would be consistent with the goals and objectives of the Atlantic Surfclam and Ocean Quahog regulations and Fishery Management Plan (FMP). However, further review and consultation may be necessary before a final determination is made to issue the EFP. The subject EFP would allow one commercial fishing vessel to conduct fishing operations that are otherwise restricted by the regulations governing the fisheries of the Northeastern United States. The EFP would allow for an exemption from the Atlantic surfclam and ocean quahog GB Closure Area. Regulations under the Magnuson-Stevens Fishery Conservation and Management Act require publication of this notification to provide interested parties the opportunity to comment on applications for proposed EFPs.

DATES: Comments must be received on or before November 12, 2010.

ADDRESSES: Comments on this notice may be submitted by e-mail. The mailbox address for providing e-mail comments is NERO.EFP@noaa.gov. Include in the subject line of the e-mail comment the following document identifier: “Comments on 2011 GB PSP Closed Area Exemption.” Written comments should be sent to Patricia A. Kurkul, Regional Administrator, NMFS, Northeast Regional Office, 55 Great Republic Drive, Gloucester, MA 01930. Mark the outside of the envelope “Comments on 2011 GB PSP Closed Area Exemption.” Comments may also be sent via facsimile (fax) to (978) 281-9135.

FOR FURTHER INFORMATION CONTACT: Anna Macan, Fishery Management Specialist, phone 978-281-9165. Copies of supporting documents referenced in this notice are available from Anna Macan, Fishery Management Specialist, National Marine Fisheries Service, 55 Great Republic Drive, Gloucester, MA 01930, and are available via the Internet at http://www.nero.noaa.gov/sfd/clams.

SUPPLEMENTARY INFORMATION: The applicant, Wallace & Associates, of Cambridge, MD, requests on behalf of Truex Enterprises, a renewal of their current EFP, which is due to expire on December 31, 2010, to allow the catch and retention for sale of Atlantic surfclams from within the Atlantic surfclam and ocean quahog GB Closure Area. The GB Closure Area is located east of 69°00′ W. long. and south of 42°20′ N. lat and has been closed since May 25, 1990, due to the presence of a toxin (saxotoxins) that cause Paralytic Shellfish Poisoning (PSP). Due, in part, to the inability to test and monitor this area for the presence of PSP, this closure was made permanent through Amendment 12 to the FMP in 1999.

The primary goal of the proposed study is to test the efficacy of the sampling protocol that was developed by State and Federal regulatory agencies to test for presence of saxotoxins in shellfish, and thus has been in a trial period through previous EFPs since 2006. This protocol would facilitate the harvest of shellfish from waters susceptible to Harmful Algal Blooms, which produce the saxotoxins, but that are not currently under rigorous water quality monitoring programs by either State or Federal management agencies. A copy of the protocol is available from the NMFS Northeast Region Web site: http://www.nero.noaa.gov/sfd/clams.

The proposed project would continue to conduct a trial for the sampling protocol in an exemption zone within the larger 1990 GB Closure Area with one fishing vessel. The exemption zone would not include any Northeast multispecies or essential fish habitat year-round closure areas. This proposed exempted fishing activity would occur during the 2011 calendar year, using surfclam quota allocated to Truex Enterprises under the Federal individual transferable quota program. The applicant has estimated a harvest of 200,000 bushels (1,606,250 L) of surfclams from the exemption area. The exemption area has been tested in cooperation with the FDA from 2006 to the present.

The applicant has obtained endorsements for the EFP and the sampling protocol from the States of Rhode Island, New Jersey, and Delaware, the States in which it intends to land and process the product harvested under the EFP. Each State is responsible for regulating the molluscan shellfish industry within its jurisdiction and ensuring the safety of shellfish harvested within or entering its borders. The sampling protocol and the pilot project that would be authorized by this EFP have also since been endorsed by the executive board of the Interstate Shellfish Sanitation Conference.

The applicants may request minor modifications and extensions to the EFP throughout the course of research. EFP modifications and extensions may be granted without further public notice if they are deemed essential to facilitate completion of the proposed research and result in only a minimal change in the scope or impacts of the initially approved EFP request.

In accordance with NOAA Administrative Order (NAO) 216-6, a Categorical Exclusion or other appropriate National Environmental Policy Act document would be completed prior to the issuance of the EFP. Further review and consultation may be necessary before a final determination is made to issue the EFP. After publication of this document in the Federal Register, the EFP, if approved, may become effective following the public comment period.

Authority: 16 U.S.C. 1801 et seq.

Dated: October 22, 2010.
Emily H. Menashes,
Acting Director, Office of Sustainable Fisheries, National Marine Fisheries Service.

[FR Doc. 2010-27174 Filed 10-26-10; 8:45 am]

BILLING CODE 3510-22-P